DEPARTMENT OF TRANSPORTATION

Federal Highway Administration

Environmental Impact Statement: Mohave County, AZ

AGENCY: Federal Highway Administration (FHWA).

ACTION: Notice of intent.

SUMMARY: The Federal Highway Administration is issuing this notice to advise the public that an environmental impact statement will be prepared for the proposed State Route 95 Realignment in Mohave County, Arizona.

FOR FURTHER INFORMATION CONTACT: Kenneth Davis, Senior Engineering Manager for Operations, Federal Highway Administration, Arizona Division Office, 400 E. Van Buren Street, Suite 410, Phoenix, Arizona 85004-0674, Telephone: (602) 379-3645, Fax: (602) 379-3608, E-mail: Kenneth.davis@fhwa.dot.gov; or

Robert Hollis, Division Administrator, Federal Highway Administration, Arizona Division Office, 400 E. Van Buren Street, Suite 410, Phoenix, AZ 85004-0674, Telephone: (602) 379-3725, FAX: (602) 379-3608, E-mail: Robert.hollis@fhwa.dot.gov.

SUPPLEMENTARY INFORMATION: The FHWA, in cooperation with the Arizona Department of Transportation (ADOT), Mohave County, and the City of Bullhead City will prepare a National Environmental Policy Act (NEPA) environmental impact statement (EIS) on a proposal to realign State Route 95 in Mohave County, Arizona. The proposed highway improvement will involve the relocation of the existing route on a new alignment east of the current highway beginning approximately two miles south of Interstate 40 and extending north to State Route 68 for a distance of approximately 42 miles. An analysis of the potential environmental impacts of the development of access roads connecting the new highway alignment with the existing roadways to west will also be studied as part of this EIS. The reconstruction of State Route 95 is considered necessary to provide for an access controlled highway to facilitate regional traffic flow and reduce traffic congestion.

Alternatives under consideration include (1) Taking no action and (2) consideration of at least two different alignments for potential relocation and development of the highway as a limited access facility located east of the existing State Route 95 highway primarily on public lands managed by the Bureau of Land Management (BLM). The BLM has accepted the role of Cooperating Agency for the study and will work closely with ADOT and FHWA to ensure NEPA evaluation includes analyses necessary for the BLM to utilize the FHWA EIS as a basis for decision to amend the BLM Kingman Resource Management Plan to allow for the highway to traverse public lands managed by BLM.

Letters describing the proposed action and soliciting comments will be sent to appropriate federal, state, and local agencies, and to private organizations and citizens who have previously expressed interest in this proposal. Formal NEPA agency and public scoping meetings, a series of public information meetings, and a public hearing will be held. Public notice will be given of the time and place of the meetings and hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Authority: 23 U.S.C. 315; U.S.C. 771.123.

Dated: May 23, 2007.
Kenneth H. Davis,
Senior Engineering Manager for Operations, Federal Highway Administration, Arizona Division Office, Phoenix, Arizona.

[FR Doc. 07-2727 Filed 5-31-07; 8:45 am]

BILLING CODE 4910-22-M